DEPARTMENT OF COMMERCE

International Trade Administration

[A-357-823]

Raw Honey From Argentina: Final Results of Antidumping Duty Administrative Review; 2021-2023

AGENCY: Enforcement and Compliance, International Trade Administration, Department of Commerce.

SUMMARY: The U.S. Department of Commerce (Commerce) determines that producers and exporters subject to this administrative review made sales of subject merchandise at less than normal value during the period of review (POR), November 23, 2021, through May 31, 2023.

DATES: Applicable April 14, 2025.

FOR FURTHER INFORMATION CONTACT: Thomas Martin or Zachary Shaykin, AD/CVD Operations, Office IV, Enforcement and Compliance, International Trade Administration, U.S. Department of Commerce, 1401 Constitution Avenue NW, Washington, DC 20230; telephone: (202) 482-3936 or (202) 482-2638, respectively.

SUPPLEMENTARY INFORMATION:

Background

On July 8, 2024, Commerce published the preliminary results of the 2022-2023 administrative review of the antidumping duty (AD) order on raw honey from Argentina ¹ and invited interested parties to Comment.² The review covers 24 producers or exporters of the subject merchandise. Commerce selected two exporters, Asociación De Cooperativas Argentinas Cooperativa Limitada (ACA) and NEXCO S.A. (NEXCO), for individual examination.³ Commerce rescinded this review with respect to five exporters in the Preliminary Results.⁴ The remaining companies not selected for individual examination are listed in Appendix II of this notice.

¹ See Raw Honey from Argentina, Brazil, India, and the Socialist Republic of Vietnam: Antidumping Duty Orders, 87 FR 35501 (June 10, 2022) (Order).

² See Raw Honey from Argentina: Preliminary Results and Rescission, in Part, of Antidumping Duty Administrative Review; 2021-2023, 89 FR 55915 (July 8, 2024) (Preliminary Results).

³ See Memorandum, “Respondent Selection,” dated August 29, 2023.

⁴ See Preliminary Results, 89 FR at 55915.

On July 22, 2024, Commerce tolled certain deadlines in this administrative review by seven days.⁵ On October 28, 2024, we extended the deadline for the final results of this review by 60 days.⁶ On December 9, 2024, Commerce tolled certain deadlines in this administrative proceeding by an additional 90 days.⁷ Accordingly, the deadline for these final results is now April 8, 2025. A summary of events that occurred since publication of the Preliminary Results, as well as a full discussion of the issues raised by interested parties for these final results, are included in the Issues and Decision Memorandum.⁸ Commerce conducted this administrative review in accordance with section 751(a)(1)(B) of the Tariff Act of 1930, as amended (the Act).

⁵ See Memorandum, “Tolling of Deadlines for Antidumping and Countervailing Duty Proceedings,” dated July 22, 2024.

⁶ See Memorandum, “Extension of Deadline for Final Results of Antidumping Duty Administrative Review,” dated October 28, 2024.

⁷ See Memorandum, “Tolling of Deadlines for Antidumping and Countervailing Duty Proceedings,” dated December 9, 2024.

⁸ See Memorandum, “Issues and Decision Memorandum for the Final Results of the Antidumping Duty Administrative Review of Raw Honey from Argentina; 2021-2023,” dated concurrently with, and hereby adopted by, this notice (Issues and Decision Memorandum).

Scope of the Order

The merchandise covered by the Order is raw honey from Argentina. For a complete description of the scope of the Order, see the Issues and Decision Memorandum.

Analysis of Comments Received

All issues raised in case and rebuttal briefs are addressed in the Issues and Decision Memorandum and are listed in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

We made certain changes to the calculation of constructed value and inventory carrying costs from the Preliminary Results. The Issues and Decision Memorandum contains a description of these changes. For further discussion of Commerce's analysis regarding these changes, see Issues and Decision Memorandum at Comments 1 and 4.

Rate for Non-Examined Companies

For the weighted-average dumping margin assigned to companies not selected for individual examination in an administrative review, Commerce, generally, looks to section 735(c)(5) of the Act which provides instructions for calculating the estimated weighted-average dumping margin for all other producers and exporters, i.e., the all-others rate, in an investigation. Under section 735(c)(5)(A) of the Act, the all-others rate is normally “an amount equal to the weighted average of the estimated weighted-average dumping margins established for exporters and producers individually investigated, excluding any zero or de minimis margins, and any margins determined entirely {on the basis of facts available}.” Under section 735(c)(5)(B) of the Act, if the estimated weighted-average dumping margins established for all exporters and producers individually investigated are zero or de minimis, or are determined entirely based on facts otherwise available, then Commerce may use any reasonable method to establish the estimated all-others rate for exporters and producers not individually investigated, including averaging the estimated weighted-average dumping margins determined for the exporters and producers individually investigated.

In this administrative review, we calculated weighted-average dumping margins for ACA and NEXCO that are not zero, de minimis (i.e., less than 0.5 percent), or determined entirely on the facts available. Accordingly, consistent with section 735(c)(5)(A) of the Act, Commerce is assigning to the companies not individually examined a margin of 4.70 percent, which is the weighted average of ACA and NEXCO's margin based on publicly-ranged U.S. sales values.⁹

⁹ With two respondents under examination, Commerce normally calculates: (A) A weighted-average of the weighted-average dumping margins calculated for the examined respondents; (B) a simple average of the weighted-average dumping margins calculated for the examined respondents; and (C) a weighted-average of the weighted-average dumping margins calculated for the examined respondents using each company's publicly-ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53663 (September 1, 2010). As complete publicly ranged sales data were available, Commerce based the weighted-average dumping margin for non-examined companies on the publicly ranged sale quantities for each of the mandatory respondents. For a complete analysis of the data, please see Memorandum, “Calculation of the Final Margin for Respondents Not Selected for Individual Examination,” dated concurrently with this notice.

Final Results of the Review

We have determined that the following estimated weighted-average dumping margins for the firms listed below for the period November 23, 2021, through May 31, 2023.

Producer or exporter | Weighted-average dumping margin (percent)
Asociación De Cooperativas Argentinas Cooperativa Limitada | 15.06
NEXCO S.A | 1.51
Review-Specific Rate for Non-Examined Companies ¹⁰ | 4.70

Disclosure

Commerce intends to disclose its calculations and analysis performed for these final results within five days of any public announcement or, if there is no public announcement, within five days of the date of publication of this notice in the Federal Register, in accordance with 19 CFR 351.224(b).

¹⁰ See Appendix II for a list of these companies.

Assessment Rates

Pursuant to section 751(a)(2)(C) of the Act and 19 CFR 351.212(b)(1), Commerce will determine, and U.S. Customs and Border Protection (CBP) shall assess, antidumping duties on all appropriate entries of subject merchandise in accordance with the final results of this review. The final results of this review shall be the basis for the assessment of antidumping duties on entries of merchandise covered by the final results of this review and for future deposits of estimated duties, where applicable.¹¹

¹¹ See section 751(a)(2)(C) of the Act.

For an individually examined respondent whose weighted-average dumping margin is not zero or de minimis (i.e., less than 0.50 percent), Commerce intends to calculate importer-specific AD assessment rates on the basis of the ratio of the total amount of dumping calculated for each importer's examined sales to the total entered value of those sales. Pursuant to 19 CFR 351.212(b)(1), neither ACA nor NEXCO reported actual entered value for all of its U.S. sales; in such instances, we calculated importer-specific per-unit duty assessment rates by aggregating the importer's amount of dumping calculated for the examined sales and dividing this amount by the total quantity of those sales. To consider whether the per-unit importer-specific assessment rate is de minimis, we estimated the enter value for each U.S. sales and calculated an estimated ad valorem importer-specific assessment rate as the importer's aggregated amount of dumping divided by the estimated entry value of those sales. Where either a respondent's weighted-average dumping margin is zero or de minimis, or an importer-specific (estimated) ad valorem assessment rate is zero or de minimis, we intend to instruct CBP to liquidate appropriate entries without regard to antidumping duties.¹²

¹² See 19 CFR 351.106(c)(2); see also Antidumping Proceeding: Calculation of the Weighted-Average Dumping Margin and Assessment Rate in Certain Antidumping Proceedings; Final Modification, 77 FR 8101, 8103 (February 14, 2012).

For entries of subject merchandise during the POR produced by an individually examined respondent for which it did not know its merchandise was destined for the United States, we intend to instruct CBP to liquidate such entries at the all-others rate (i.e., 16.92 percent) ¹³ if there is no rate for the intermediate company(ies) involved in the transaction.¹⁴

¹³ See Raw Honey from Argentina: Final Determination of Sales at Less Than Fair Value and Final Affirmative Determination of Critical Circumstances, 87 FR 22179, 22181 (April 14, 2022) (Final Determination).

¹⁴ See Antidumping and Countervailing Duty Proceedings: Assessment of Antidumping Duties, 68 FR 23954 (May 6, 2003).

For the companies that were not selected for individual examination, we will instruct CBP to assess antidumping duties at the assessment rate equal to the weighted-average of the dumping margins for each individually examined exporter in the final results of review.

Commerce intends to issue assessment instructions to CBP no earlier than 35 days after the date of publication of the final results of this review in the Federal Register. If a timely summons is filed at the U.S. Court of International Trade, the assessment instructions will direct CBP not to liquidate relevant entries until the time for parties to file a request for statutory injunction has expired (i.e., within 90 days of publication).

Cash Deposit Requirements

Upon publication of this notice in the Federal Register, the following cash deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review, except if the rate is de minimis (i.e., less than 0.50 percent), in which case the cash deposit rate will be zero; (2) for an exporter of subject merchandise previously reviewed or investigated companies not covered by this review, the cash deposit rate will continue to be equal to the company-specific rate published for the most recently-completed segment of this proceeding; (3) if the exporter is not a firm covered in this review, a prior review, or the less-than-fair-value (LTFV) investigation, but the producer is, the cash deposit rate will continue to be equal to the rate established for the most recently-completed segment of this proceeding for the producer of the merchandise; and (4) the cash deposit rate for all other producers and exporters will continue to be 16.92 percent, the all-others rate established in the LTFV Final Determination.¹⁵ These cash deposit requirements, when imposed, shall remain in effect until further notice.

¹⁵ See Final Determination, 87 FR at 22181.

Notification to Importers

This notice also serves as a final reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing these final results of administrative in accordance with sections 751(a)(1) and 777(i)(1) of the Act and 19 351.221(b)(4).

Dated: April 8, 2025.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Since the Preliminary Results

V. Discussion of the Issues

Comment 1: Calculation of Constructed Value Profit

Comment 2: Weighted-Average Dumping Margin for Non-Selected Companies

Comment 3: Post-Sale Comparison Market Price Adjustments Reported by ACA

Comment 4: Inventory Carrying Costs

Comment 5: Application of Facts Available to NEXCO's Costs of Production

VI. Recommendation

Appendix II

Non-Examined Companies Receiving a Review-Specific Rate

1. Azul Agronegocios S.A.

2. Compaia Apicola Argentina S.A.

3. Compania Inversora Platense S.A.

4. Cooperativa Apicola La Colmena Ltda.

5. D'Ambros Maria de Los Angeles y D'Ambros Maria Daniela SRL.

6. Gasrroni S.R.L.

7. Geomiel S.A.

8. Gruas San Blas S.A.

9. Honey & Grains Srl.

10. Industrial Haedo S.A.

11. Industrias Haedo S.A.

12. Naiman S.A.

13. Newsan S.A.

14. Patagonik Food S.A.,

15. Promiel Srl (Vicentin S.A.I.C.).

16. Terremare Foods S.A.S.

17. Villamora S.A.

[FR Doc. 2025-06325 Filed 4-11-25; 8:45 am]

BILLING CODE 3510-DS-P